DEPARTMENT OF HEALTH AND HUMAN SERVICES

Centers for Disease Control and Prevention

[Program Announcement 03159]

Cooperative Agreement To Strengthen, Monitor, and Evaluate Communicable Disease Surveillance and Response in Africa; Notice of Intent To Fund Single Eligibility Award

A. Purpose

The Centers for Disease Control and Prevention (CDC) announces the intent to fund fiscal year (FY) 2003 funds for a cooperative agreement to improve country-level capacity for prompt detection and response to priority communicable diseases in the priority countries of Mozambique, Ethiopia, Burkina Faso, and Mali. The Catalog of Federal Domestic Assistance number for this program is 93.283.

B. Eligible Applicant

Assistance will be provided only to Communicable Disease Surveillance and Response, African Regional Office of the World Health Organization (CSR, WHO-AFRO). No other applications are solicited.

CSR, WHO-AFRO is the most appropriate and qualified organization to conduct the activities specified under this cooperative agreement because it is the sole organization with legal authority to provide guidance, monitoring and evaluation on IDSR to the member states in the African region and with the internal administrative capacity to provide funds to the WHO country offices and ministries of health for country-level activities.

C. Funding

Approximately $240,000 is available in FY 2003 to fund this award. It is expected that the award will begin on or before September 1, 2003, and will be made for a 12-month budget period within a project period of one year. Funding estimates may change.

D. Where To Obtain Additional Information

For general comments or questions about this announcement, contact:

Technical Information Management, CDC Procurement and Grants Office, 2920 Brandywine Road, Atlanta, GA 30341-4146. Telephone: 770-488-2700.

For technical questions about this program, contact: Ms. Helen Perry or Dr. Montse Soriano-Gabarro, Meningitis and Special Pathogens Branch, Division of Bacterial and Mycotic Diseases, National Center for Infectious Diseases, Centers for Disease Control and Prevention, 1600 Clifton Road, Atlanta, GA 30333. Telephone number (404) 639-0706 or (404) 639-4062; email address hap5@cdc.gov or zzd7@cdc.gov.

Dated: July 1, 2003.
Sandra R. Manning,
Director, Procurement and Grants Office, Centers for Disease Control and Prevention.

[FR Doc. 03-17160 Filed 7-7-03; 8:45 am]

BILLING CODE 4163-18-P